DEPARTMENT OF HEALTH AND HUMAN SERVICES

Food and Drug Administration

21 CFR Part 21

[Docket No. FDA-2011-N-0252]

Office of the Secretary

45 CFR Part 5b

Privacy Act, Exempt Record System; Withdrawal

AGENCY: Office of the Secretary, Food and Drug Administration, HHS.

ACTION: Direct final rule; withdrawal.

SUMMARY: The Department of Health and Human Services (HHS) and the Food and Drug Administration (FDA) are withdrawing the direct final rule that August 28, 2012. HHS/FDA published the direct final rule to exempt scientific research misconduct proceedings records from certain requirements of the Privacy Act of 1974 in order to protect records compiled in the course of misconduct inquiries and investigations, and to safeguard the identity of confidential sources. The comment period closed on November 13, 2012. HHS/FDA is withdrawing the direct final rule because the Agency received significant adverse comment.

DATES: Effective Date: The direct final rule published at 77 FR 51910, August 28, 2012, is withdrawn effective January 10, 2013.

FOR FURTHER INFORMATION CONTACT: Frederick Sadler, Division of Freedom of Information, Food and Drug Administration, 12420 Parklawn Dr., Rockville, MD 20857, 301-796-8975, Frederick.Sadler@fda.hhs.gov.

SUPPLEMENTARY INFORMATION: HHS and FDA are withdrawing the direct final rule that published in the Federal Register of Tuesday, August 28, 2012 (77 FR 51910). HHS/FDA published the direct final rule to exempt scientific research misconduct proceedings records from certain requirements of the Privacy Act of 1974 in order to protect records compiled in the course of misconduct inquiries and investigations, and to safeguard the identity of confidential sources. The comment period closed on November 13, 2012. HHS/FDA is withdrawing the direct final rule because the Agency received significant adverse comment.

Authority: Therefore, under 5 U.S.C. 552a, the direct final rule published on Tuesday, August 28, 2012, 77 FR 51910, is withdrawn.

Dated: January 10, 2013.
Approved:
Kathleen Sebelius
Secretary, Department of Health and Human Services.

[FR Doc. 2013-00723 Filed 1-10-13; 4:15 pm]

BILLING CODE 4160-01-P